FEDERAL COMMUNICATIONS COMMISSION

47 CFR Part 73

[DA 03-3746; MB Docket No. 03-175; RM-10719]

Radio Broadcasting Services; Rising Star, TX

AGENCY: Federal Communications Commission.

ACTION: Proposed rule; dismissal.

SUMMARY: In this document, the Commission dismisses a petition for rule making filed by Charles Crawford (“Petitioner”), requesting the allotment of Channel 290C3 at Rising Star, Texas. See 68 FR 47283, August 8, 2003. Petitioner's comments were late-filed with no request to accept on a late-filed basis. Although timely filed, a counterproposal filed by Katherine Pyeatt was dismissed as unacceptable due to a short spacing to a licensed station. With this action, this proceeding is terminated.

FOR FURTHER INFORMATION CONTACT: Kathleen Scheuerle, Media Bureau, (202) 418-2180.

SUPPLEMENTARY INFORMATION: This is a synopsis of the Commission's Report and Order, MB Docket No. 03-175, adopted November 21, 2003, and released November 26, 2003. The full text of this Commission decision is available for inspection and copying during normal business hours in the Commission's Reference Center, 445 12th Street, SW., Washington, DC. The complete text of this decision may also be purchased from the Commission's copy contractors, Natek, Inc., Portals II, 445 12th Street, SW., Room CY-B402, Washington, DC 20554, telephone 202-863-2893, facsimile 202-863-2898.

Federal Communications Commission.
John A. Karousos,
Assistant Chief, Audio Division, Media Bureau.

[FR Doc. 03-30544 Filed 12-9-03; 8:45 am]

BILLING CODE 6712-01-P